FEDERAL COMMUNICATIONS COMMISSION

Public Information Collection(s) Requirement Submitted to OMB for Emergency Review and Approval

December 4, 2007.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before January 7, 2008. If you anticipate that you will be submitting comments, but find it difficult to do so within the period of time allowed by this notice, you should advise the contacts listed below as soon as possible.

ADDRESSES: Direct all PRA comments to Nicholas A. Fraser, Office of Management and Budget, via e-mail to nfraser@omb.eop.gov or via fax at 202-395-5167, and to the Federal Communications Commission via e-mail to PRA@fcc.gov or by U.S. mail to Leslie F. Smith, Federal Communications Commission, Room 1-C216, 445 12th Street, SW., Washington, DC 20554.

FOR FURTHER INFORMATION CONTACT: For additional information about the information collection(s), contact Leslie F. Smith via e-mail at PRA@fcc.gov or call (202) 418-0217. For further instructions on how to view a copy of this information collection request (ICR), go to this Web page: http://www.fcc.gob/omd/pra/collections-review.html.

SUPPLEMENTARY INFORMATION: The Commission has requested approval of this information collection under the emergency processing provisions of the PRA by January 22, 2008.

OMB Control Number: 3060-0804.

Title: Universal Service—Rural Health Care Program/Rural Health Care Pilot Program.

Form Number(s): FCC Forms 465, 466, 466-A, and 467.

Type of Review: Revision of a currently approved collection.

Respondents: Business or other for-profit; not-for-profit institutions; and state, local, or tribal governments.

Number of Respondents: 6,494.

Estimated Time per Response: 0.10-20 hours.

Frequency of Response: Recordkeeping; on occasion, one time, annual, quarterly, and monthly reporting requirements; third party disclosure.

Obligation to Respond: Required to obtain or retain benefits.

Total Annual Burden: 67,467 hours.

Total Annual Cost: $0.00.

Privacy Impact Assessment: No Impact(s).

Nature and Extent of Confidentiality: The Commission is not requesting that the respondents submit confidential information to the FCC. Respondents may, however, request confidential treatment for information they believe to be confidential under 47 CFR 0.459 of the Commission's rules.

Needs and Uses: In the Telecommunications Act of 1996 (1996 Act), Congress specifically intended that rural health care providers be provided with “an affordable rate for the services necessary for the provision of telemedicine and instruction relating to such services.” In 1997, the Commission implemented this statutory directive by adopting the current Rural Health Care support mechanism, which provides universal service support to ensure that rural health care providers pay no more than their urban counterparts for their telecommunications needs and Internet access in the provision of health care services. Despite the Commission's efforts to increase the utility of the Rural Health Care support mechanism, the program has yet to fully achieve the benefits intended by the statute and the Commission. In particular, health care providers continue to lack access to the broadband facilities needed to support the types of advanced telehealth applications, like telemedicine, that are vital to bringing medical expertise and the advantages of modern health technology to rural areas of the Nation. In response, the Commission issued the 2007 Pilot Program Selection Order (WC Docket No. 02-60; FCC 07-198) which selected 69 participants for the universal service Rural Health Care Pilot Program (which was originally established by the Commission in September 2006). These 69 participants represent 42 states and 3 U.S. territories and will be eligible for approximately $417 million in universal service support over three years (or $139 million per funding year) to: (1) Support up to 85 percent of the costs associated with the construction of state or regional broadband health care networks and with the advanced telecommunications and information services provided over those networks; and (2) support up to 85 percent of the costs of connecting to Internet2 or National LambdaRail, which are both dedicated nationwide backbones, or to the public Internet. To minimize the burden on Pilot Program participants and to streamline the process, the Commission generally uses the same forms as the existing Rural Health Care support mechanism. For example, selected participants, in order to receive support, must submit an FCC Form 465 (seeking bids), FCC 466-A (selection of service provider), and FCC Form 467 (notification of service initiation). Due to the unique structure of the Pilot Program, however, in the 2007 Pilot Program Selection Order, the Commission provides guidance regarding how these forms should be completed and additional information is required from selected participants, including, proposed network costs worksheets, certifications, letters of agency from each participating health care provider, invoices showing actual incurred costs, and, if applicable, network design studies.

Federal Communications Commission.
William F. Caton,
Deputy Secretary.

[FR Doc. E7-23803 Filed 12-6-07; 8:45 am]

BILLING CODE 6712-01-P